DEPARTMENT OF TRANSPORTATION

Federal Aviation Administration

14 CFR Part 39

[Docket No. FAA-2022-1409; Project Identifier AD-2022-01396-A; Amendment 39-22235; AD 2022-23-08]

RIN 2120-AA64

Airworthiness Directives; Viking Air Limited (Type Certificate Previously Held by Bombardier Inc. and de Havilland, Inc.)

AGENCY: Federal Aviation Administration (FAA), DOT.

ACTION: Final rule; request for comments.

SUMMARY: The FAA is adopting a new airworthiness directive (AD) for all Viking Air Limited (Viking) (type certificate previously held by Bombardier Inc. and de Havilland, Inc.) Model DHC-3 airplanes. This AD was prompted by a recent investigation of a Viking Model DHC-3 airplane where the lock ring of the stabilizer actuator was found missing. This AD requires a visual inspection of the stabilizer actuator to confirm that the stabilizer actuator lock ring is present, correctly seated in the groove in the upper housing, and engaged in the clamp nut, applicable corrective actions, and application of a torque seal. This AD also requires sending the inspection results to the FAA. The FAA is issuing this AD to address the unsafe condition on these products.

DATES: This AD is effective November 2, 2022.

The FAA must receive comments on this AD by December 19, 2022.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov by searching for and locating Docket No. FAA-2022-1409; or in person at Docket Operations between 9 a.m. and 5 p.m., Monday through Friday, except Federal holidays. The AD docket contains this final rule, any comments received, and other information. The street address for Docket Operations is listed above.

FOR FURTHER INFORMATION CONTACT: Elizabeth Dowling, Aviation Safety Engineer, New York ACO Branch, FAA, 1600 Stewart Avenue, Westbury, NY 11590; phone: (516) 228-7300; email: 9-avs-nyaco-cos@faa.gov.

SUPPLEMENTARY INFORMATION:

Background

On September 4, 2022, a fatal accident of a Viking Model DHC-3 airplane in Mutiny Bay near Freeland, WA occurred. The National Transportation Safety Board investigation showed that the lock ring of the stabilizer actuator was found missing. The investigation revealed that the clamp nut that attaches the top eye end and bearing assembly of the horizontal stabilizer actuator to the actuator barrel had unscrewed from the barrel. The investigation also found that the circular wire lock ring, which was designed to prevent the clamp nut from unscrewing, was not present. This condition, if not detected and corrected, could result in a reduction or loss of pitch control during flight with consequent loss of control of the airplane. The FAA is issuing this AD to address the unsafe condition on these products.

FAA's Determination

The FAA is issuing this AD because the agency has determined the unsafe condition described previously is likely to exist or develop in other products of the same type design.

AD Requirements

This AD requires a visual inspection of the stabilizer actuator to confirm that the stabilizer actuator lock ring is present, correctly seated in the groove in the upper housing, and engaged in the clamp nut, applicable corrective actions, and application of a torque seal. This AD also requires sending the inspection results to the FAA.

Interim Action

The FAA considers this AD to be an interim action. If final action is later identified, the FAA might consider further rulemaking.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because loss of pitch control during flight with consequent loss of control of the airplane could occur rapidly and without warning due to a missing or incorrectly seated lock ring in the stabilizer actuator. Given the significance of the risk presented by this unsafe condition, it must be immediately addressed. Thus, the FAA has determined that these airplanes must be inspected within 10 hours time-in-service. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2022-1409 and Project Identifier AD-2022-01396-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Elizabeth Dowling, Aviation Safety Engineer, New York ACO Branch, FAA, 1600 Stewart Avenue, Suite 410, Westbury, NY 11590. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 63 airplanes of U.S. registry.

The FAA estimates the following costs to comply with this AD:

Estimated Costs
Action | Labor cost | Parts cost | Cost per product | Cost on U.S. operators
Inspection and Torque Seal Application | 1 work-hour × $85 per hour = $85 | Not Applicable | $85 | $5,355
Reporting Requirement | 1 work-hour × $85 per hour = $85 | Not Applicable | 85 | 5,355

The FAA has received no definitive data regarding the cost estimates for the on-condition corrective actions required by this AD.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-23-08 Viking Air Limited (type certificate previously held by Bombardier Inc. and de Havilland, Inc.): Amendment 39-22235; Docket No. FAA-2022-1409; Project Identifier AD-2022-01396-A.

(a) Effective Date

This airworthiness directive (AD) is effective November 2, 2022.

None.

(b) Affected ADs

None.

(c) Applicability

This AD applies to Viking Air Limited (Viking) (type certificate previously held by Bombardier Inc. and de Havilland, Inc.) Model DHC-3 airplanes, all serial numbers, certificated in any category.

(d) Subject

Joint Aircraft System Component (JASC) Code 5520, Elevator Structure.

(e) Unsafe Condition

This AD was prompted by a recent investigation of a Viking Model DHC-3 airplane where the lock ring of the stabilizer actuator was found missing. The investigation revealed that the clamp nut that attaches the top eye end and bearing assembly of the horizontal stabilizer actuator to the actuator barrel had unscrewed from the barrel. The investigation also found that the circular wire lock ring, which was designed to prevent the clamp nut from unscrewing, was not present. This condition, if not detected and corrected, could result in a reduction or loss of pitch control during flight with consequent loss of control of the airplane.

(f) Compliance

Comply with this AD within the compliance times specified, unless already done.

(g) Inspection

Within 10 hours time-in-service (TIS) after the effective date of this AD, perform a visual inspection of the stabilizer actuator to confirm that the stabilizer actuator lock ring is present, correctly seated in the groove in the upper housing, and engaged in the clamp nut. If the stabilizer actuator lock ring is missing or not correctly installed, before further flight, repair using a method approved by the Manager, New York ACO Branch, FAA, at the address in paragraph (k) of this AD.

Note to paragraph (g): Viking Service Letter DHC3-SL-27-001, dated October 25, 2022, contains information related to this AD.

(h) Torque Seal

Before further flight after the inspection required by paragraph (g) of this AD, apply a torque seal to the clamp nut and lock ring.

(i) Reporting Requirement

Within 10 days after the inspection required by paragraph (g) of this AD or within 10 days after the effective date of this AD, whichever occurs later, report the results of the inspection to the FAA at 9-avs-nyaco-cos@faa.gov. Include the airplane serial number, airplane hours TIS, hours TIS since last actuator overhaul (if known), and whether the lock ring was present, missing, or incorrectly installed.

(j) Alternative Methods of Compliance (AMOCs)

(1) The Manager, New York ACO Branch, FAA, has the authority to approve AMOCs for this AD, if requested using the procedures found in 14 CFR 39.19. In accordance with 14 CFR 39.19, send your request to your principal inspector or local Flight Standards District Office, as appropriate. If sending information directly to the manager of the certification office, mail it to ATTN: Program Manager, Continuing Operational Safety, at the address identified in paragraph (k) of this AD or email to: 9-avs-nyaco-cos@faa.gov. If mailing information, also submit information by email.

(2) Before using any approved AMOC, notify your appropriate principal inspector, or lacking a principal inspector, the manager of the local flight standards district office/certificate holding district office.

(3) For service information identified in this AD that is not incorporated by reference, contact Viking Air Ltd., 1959 de Havilland Way, Sidney British Columbia, Canada V8L 5V5; phone: (800) 663-8444; email: continuing.airworthiness@vikingair.com; website: vikingair.com.

(k) Related Information

For more information about this AD, contact Elizabeth Dowling, Aviation Safety Engineer, New York ACO Branch, FAA, 1600 Stewart Avenue, Westbury, NY 11590; phone: (516) 228-7300; email: 9-avs-nyaco-cos@faa.gov.

(l) Material Incorporated by Reference

None.

Issued on October 28, 2022.
Ross Landes,
Deputy Director for Regulatory Operations, Compliance & Airworthiness Division, Aircraft Certification Service.

[FR Doc. 2022-23899 Filed 10-31-22; 8:45 am]

BILLING CODE 4910-13-P